DEPARTMENT OF COMMERCE

International Trade Administration, Commerce

Export Trade Certificate of Review

ACTION: Notice of issuance of an amended export trade certificate of review, application no. 99-1A005.

SUMMARY: The Department of Commerce has issued an amendment to the Export Trade Certificate of Review granted originally to California Almond Export Association (“CAEA”) on December 27, 1999. Notice of issuance of the Certificate was published in the Federal Register on January 6, 2000 (65 FR 760).

FOR FURTHER INFORMATION CONTACT: Vanessa M. Bachman, Acting Director, Office of Export Trading Company Affairs, International Trade Administration, by telephone at (202) 482-5131 (this is not a toll-free number) or by E-mail at oetca@ita.doc.gov.

SUPPLEMENTARY INFORMATION: Title III of the Export Trading Company Act of 1982 (15 U.S.C. 4001-4021) authorizes the Secretary of Commerce to issue Export Trade Certificates of Review. The regulations implementing Title III are found at 15 CFR part 325 (2000).

The Office of Export Trading Company Affairs (“OETCA”) is issuing this notice pursuant to 15 CFR 325.6(b), which requires the Department of Commerce to publish a summary of the certificate in the Federal Register. Under section 305(a) of the Act and 15 CFR § 325.11(a), any person aggrieved by the Secretary's determination may, within 30 days of the date of this notice, bring an action in any appropriate district court of the United States to set aside the determination on the ground that the determination is erroneous.

Description of Amended Certificate

Export Trade Certificate of Review No. 99-00005, was issued to California Almond Export Association, L.L.C. on December 27, 1999 (65 FR 760, January 6, 2000).

California Almond Export Association L.L.C's Certificate of Review has been amended to:

1. Add each of the following companies as a new “Member” of the Certificate within the meaning of section 325.2(1) of the Regulations (15 CFR 325.2(1): Fisher Nut Company, Modesto, California; Minturn Nut Company, LeGrand, California; Quality Nut Company, Escalon, California; and Ryan*Parreira Almond Company, Los Banos, California; and;

2. Delete Dole Nut Company, Bakersfield, California and Santa Fe Nut Company of Ballico, California, as “Members” of the Certificate.

The effective date of the amended certificate is March 26,2001. A copy of the amended certificate will be kept in the International Trade Administration's Freedom of Information Records Inspection Facility, Room 4102, U.S. Department of Commerce, 14th Street and Constitution Avenue, NW., Washington, DC 20230.

Dated: June 26, 2001.
Vanessa M. Bachman,
Acting Director, Office of Export Trading, Company Affairs.

[FR Doc. 01-16475 Filed 6-29-01; 8:45 am]

BILLING CODE 3510-DR-P